DEPARTMENT OF DEFENSE

Department of the Navy

Notice of Public Meetings for the Draft Supplemental Environmental Impact Statement for the Introduction of the P-8A Multi-Mission Maritime Aircraft into the U.S. Navy Fleet

AGENCY: Department of the Navy, DoD.

ACTION: Notice.

SUMMARY: Pursuant to Section 102(2)(c) of the National Environmental Policy Act of 1969 and regulations implemented by the Council on Environmental Quality (40 Code of Federal Regulations parts 1500-1508), the Department of the Navy (DoN) has prepared and filed with the U.S. Environmental Protection Agency a Draft Supplemental Environmental Impact Statement (EIS). The proposed action evaluated in the Draft Supplemental EIS is to provide facilities and functions to dual site the P-8A at two established maritime patrol home bases: Naval Air Station (NAS) Jacksonville, Florida and NAS Whidbey Island, Washington. The proposed action also includes a permanent rotating squadron detachment at Marine Corps Base (MCB) Hawaii, Kaneohe Bay, Hawaii and periodic squadron detachments to Naval Base Coronado, California. This document supplements the 2008 Final EIS for the Introduction of the P-8A Multi-Mission Aircraft into the U.S. Navy Fleet (hereinafter Final EIS) with additional alternatives to provide facilities and functions associated with the proposed home basing action, changes in circumstances at the home base locations, and the latest P-8A project information. A notice of the Record of Decision (ROD) related to the Final EIS was published in the Federal Register on January 2, 2009 (74 FR 100).

With the filing of the Draft Supplemental EIS, the DoN is initiating a 45-day public comment period beginning on September 20, 2013 and ending on November 4, 2013. During this period, the DoN will conduct two public meetings to receive oral and written comments on the Draft Supplemental EIS. This notice announces the dates, times, and locations of the public meetings and provides supplementary information about this environmental planning effort.

Dates and Addresses: Public information and comment meetings will be held by the DoN to provide individuals with information on the Draft Supplemental EIS in an open house format. DoN representatives at informational poster stations will be available during the public meetings to clarify information related to the Draft Supplemental EIS. The public meetings will be held between 5:00 p.m. and 8:00 p.m. on the following dates and at the following locations:

1. Tuesday, October 8, 2013 at Oak Harbor High School Student Union Building, 1 Wildcat Way, Oak Harbor, Washington 98277.

2. Thursday, October 17, 2013 at Holiday Inn Hotel & Suites, 620 Wells Road, Orange Park, Florida 32073.

Federal, state, and local agencies and officials, and interested groups and individuals are encouraged to provide comments in person at the public meetings or in writing anytime during the public comment period. At the public meetings, attendees will be able to submit comments in writing or orally using a stenographer who will listen to and transcribe comments. Comments may also be submitted via the U.S. Postal Service to Naval Facilities Engineering Command Atlantic, Attn: Code EV21/CZ (P-8A SEIS Project Manager), 6506 Hampton Boulevard, Norfolk, Virginia 23508-1278 or electronically via the project Web site (http://www.mmaseis.com).

All statements submitted during the public review period will be given equal weight, whether they are received orally at the public meetings or submitted in writing at the public meetings, via the U.S. Postal Service, or electronically via the public Web site. All comments received will become part of the public record on the Draft Supplemental EIS and be responded to in the Final Supplemental EIS. All written comments must be postmarked or received online by November 4, 2013 to ensure they become part of the official record.

FOR FURTHER INFORMATION CONTACT: Naval Facilities Engineering Command Atlantic, Attn: Code EV21/CZ (P-8A SEIS Project Manager), 6506 Hampton Boulevard, Norfolk, Virginia 23508-1278.

SUPPLEMENTARY INFORMATION: A Notice of Intent to prepare this Draft Supplemental EIS was published in the Federal Register on November 16, 2012 (77 FR 68113). The DoN's proposed action is to provide facilities and functions to dual-site the P-8A Multi-Mission Maritime Aircraft at two established maritime patrol home bases. This document supplements the Final EIS completed in 2008.

The Draft Supplemental EIS considers two alternatives and the No Action Alternative, which include the following installations: NAS Jacksonville, Florida; NAS Whidbey Island, Washington; Naval Base Coronado, California; and MCB Hawaii Kaneohe Bay, Hawaii. Alternative 1 considers the environmental effects of home basing P-8A squadrons at two locations: six fleet squadrons and the FRS at NAS Jacksonville; six fleet squadrons at NAS Whidbey Island; a permanent rotating squadron detachment at MCB Hawaii; and, periodic squadron detachments at Naval Base Coronado. Alternative 2 considers the environmental effects of home basing P-8A squadrons at two locations: Five fleet squadrons and the FRS at NAS Jacksonville; seven fleet squadrons at NAS Whidbey Island; a permanent rotating squadron detachment at MCB Hawaii; and, periodic squadron detachments at Naval Base Coronado. The No Action Alternative represents conditions if no further implementation of the 2008 ROD were to occur.

No significant adverse impacts are identified for any resource area in any geographic location that cannot be mitigated. In accordance with Section 7 of the Endangered Species Act, the DoN is consulting with U.S. Fish and Wildlife Service, as appropriate, for impacts to federally-listed species. The DoN is consulting under the National Historic Preservation Act regarding impacts to historic properties, and will comply with other applicable laws and regulations. A permit under the Clean Water Act (CWA) Section 404 would be obtained from the U.S. Army Corps of Engineers and a permit under CWA Section 401 would be obtained from the Washington Department of Ecology for wetland impacts at NAS Whidbey Island, Washington.

The Draft Supplemental EIS was distributed to Federal, State, and local agencies, elected officials, and other interested individuals and organizations. Copies of the Draft Supplemental EIS are available for public review at the following libraries:

1. Oak Harbor City Library, 1000 SE Regatta Drive, Oak Harbor, Washington 98277.

2. Anacortes Public Library, 1220 10th Street, Anacortes, Washington 98221.

3. La Conner Regional Library, 614 Morris Street, La Conner, Washington 98257.

4. Coupeville Library, 788 NW Alexander Street, Coupeville, Washington 98239.

5. Coronado Public Library, 640 Orange Avenue, Coronado, California 92118.

6. Webb-Wesconnett Regional Branch, Jacksonville Public Library, 6887 103rd Street, Jacksonville, Florida 32210.

7. Kaneohe Public Library, 45-829 Kamehameha Highway, Kaneohe, Hawaii 96744.

Copies of the Draft Supplemental EIS are also available for electronic viewing or download at http://www.mmaseis.com.

Dated: September 16, 2013.
N.A. Hagerty-Ford,
Commander, Office of the Judge Advocate General, U.S. Navy, Federal Register Liaison Officer.

[FR Doc. 2013-22899 Filed 9-19-13; 8:45 am]

BILLING CODE 3810-FF-P